Executive Order 13192 of January 17, 2001

Lifting and Modifying Measures With Respect to the Federal Republic of Yugoslavia (Serbia and Montenegro)

By the authority vested in me as President by the Constitution and the laws of the United States of America, including the International Emergency Economic Powers Act (50 U.S.C. 1701 et seq.) (IEEPA), the National Emergencies Act (50 U.S.C. 1601 et seq.), section 5 of the United Nations Participation Act of l945, as amended (22 U.S.C. 287c) (UNPA), and section 301 of title 3, United States Code, and in view of United Nations Security Council Resolution 827 of May 25, 1993 (UNSCR 827), and subsequent resolutions,

I, WILLIAM J. CLINTON, President of the United States of America, found in Executive Order 13088 of June 9, 1998, that the actions and policies of the Governments of the Federal Republic of Yugoslavia (Serbia and Montenegro) (the “FRY (S&M)”) and the Republic of Serbia with respect to Kosovo, by promoting ethnic conflict and human suffering, threatened to destabilize countries of the region and to disrupt progress in Bosnia and Herzegovina in implementing the Dayton peace agreement, and therefore constituted an unusual and extraordinary threat to the national security and foreign policy of the United States. I declared a national emergency to deal with that threat and ordered that economic sanctions be imposed with respect to those governments. I issued Executive Order 13121 of April 30, 1999, in response to the continuing human rights and humanitarian crises in Kosovo. That order revised and substantially expanded the sanctions imposed pursuant to Executive Order 13088.

In view of the peaceful democratic transition begun by President Vojislav Kostunica and other newly elected leaders in the FRY (S&M), the promulgation of UNSCR 827 and subsequent resolutions calling for all states to cooperate fully with the International Criminal Tribunal for the former Yugoslavia, the illegitimate control over FRY (S&M) political institutions and economic resources or enterprises exercised by former President Slobodan Milosevic, his close associates and other persons, and those individuals' capacity to repress democracy or perpetrate or promote further human rights abuses, and in order to take steps to counter the continuing threat to regional stability and implementation of the Dayton peace agreement and to address the national emergency described and declared in Executive Order 13088, I hereby order:

Section 1. Amendments to Executive Order 13088. (a) Section 1 of Executive Order 13088 of June 9, 1998, as revised by section 1(a) of Executive Order 13121 of April 30, l999, is revised to read as follows:

“Section 1. (a) Except to the extent provided in section 203(b) of IEEPA (50 U.5.C. 1702(b)), and in regulations, orders, directives, or licenses that may hereafter be issued pursuant to this order, and notwithstanding any contract entered into or any license or permit granted prior to the effective date, I hereby order blocked all property and interests in property that are or hereafter come within the United States or that are or hereafter come within the possession or control of United States persons, of:

(i) any person listed in the Annex to this order; and

(ii) any person determined by the Secretary of the Treasury, in consultation with the Secretary of State:

(A) to be under open indictment by the International Criminal Tribunal for the former Yugoslavia, subject to applicable laws and procedures;

(B) to have sought, or to be seeking, through repressive measures or otherwise, to maintain or reestablish illegitimate control over the political processes or institutions or the economic resources

or enterprises of the Federal Republic of Yugoslavia, the Republic of Serbia, the Republic of Montenegro, or the territory of Kosovo;

(C) to have provided material support or resources to any person designated in or pursuant to section 1(a) of this order; or

(D) to be owned or controlled by or acting or purporting to act directly or indirectly for or on behalf of any person designated in or pursuant to section 1(a) of this order.

(b) All property and interests in property blocked pursuant to this order prior to 12:01 a.m., eastern standard time, on January 19, 2001, shall remain blocked except as otherwise authorized by the Secretary of the Treasury.”

(b) Section 2 of Executive Order 13088, as replaced by section 1(b) of Executive Order 13121, is revoked and a new section 2 is added to read as follows:

“Sec. 2. Further, except to the extent provided in section 203(b) of IEEPA (50 U.S.C. 1702(b)), and in regulations, orders, directives, or licenses that may hereafter be issued pursuant to this order, and notwithstanding any contract entered into or any license or permit granted prior to the effective date, I hereby prohibit any transaction or dealing by a United States person or within the United States in property or interests in property of any person designated in or pursuant to section 1(a) of this order.”

(c) Section 3 of Executive Order 13088 is revoked.

(d) Section 4 of Executive Order 13088, as revised by section 1(c) of Executive Order 13121, is renumbered and revised to read as follows:

“Sec. 3. Any transaction by a United States person that evades or avoids, or has the purpose of evading or avoiding,

or attempts to violate, any of the prohibitions set forth in this order is prohibited. Any conspiracy formed to violate the prohibitions of this order is prohibited.”

(e) Section 5 of Executive Order 13088 is renumbered and revised to read as follows:

“Sec. 4. For the purposes of this order:

(a) The term “person” means an individual or entity;

(b) The term “entity” means a partnership, association, trust, joint venture, corporation or other organization; and

(c) The term “United States person” means any United States citizen, permanent resident alien, entity organized under the laws of the United States or any jurisdiction within the United States (including foreign branches), or any person in the United States.”

(f) Section 6 of Executive Order 13088 is renumbered and revised to read as follows:

“Sec. 5. The Secretary of the Treasury, in consultation with the Secretary of State, is hereby authorized to take such actions, including the promulgation of rules and regulations, and to employ all powers granted to me by IEEPA and UNPA, as may be necessary to carry out the purposes of this order. The Secretary of the Treasury may redelegate any of these functions to other officers and agencies of the United States Government. All agencies of the United States Government are hereby directed to take all appropriate measures within their statutory authority to carry out the provisions of this order.”

(g) A new section 6 is added to Executive Order 13088 to read as follows:

“Sec. 6. The Secretary of the Treasury, in consultation with the Secretary of State, is hereby authorized to remove any person from the Annex to this order as circumstances warrant.”

(h) Section 7 of Executive Order 13088, as revised by section 1(d) of Executive Order 13121, is revoked.

Sec. 2. Preservation of Authorities. Nothing in this order is intended to affect the continued effectiveness of any rules, regulations, orders, licenses, or other forms of administrative action issued, taken, or continued in effect heretofore or hereafter under Executive Order 13088, Executive Order 13121, or the authority of IEEPA or UNPA, except as hereafter terminated, modified, or suspended by the issuing Federal agency.

Sec. 3. No Rights or Privileges Conferred. This order is not intended to create, nor does it create, any right, benefit, or privilege, substantive or procedural, enforceable at law by a party against the United States, its agencies, officers, or any other person.

Sec. 4. (a) Effective Date. This order is effective at 12:01 a.m. eastern standard time on January 19, 2001.

(b) Transmittal; Publication. This order shall be transmitted to the Congress and published in the Federal Register.

wj

THE WHITE HOUSE,

January 17, 2001.

Billing code 3195-01-P

[FR Doc. 01-2138

Filed 1-22-01; 8:45 am]

Billing code 3195-01-C